DEPARTMENT OF AGRICULTURE

Animal and Plant Health Inspection Service

[Docket No. APHIS-2018-0055]

Notice of Request for Revision to and Extension of Approval of an Information Collection; Importation of Small Lots of Seeds Without Phytosanitary Certificates

ACTION: Revision to and extension of approval of an information collection; comment request.

SUMMARY: In accordance with the Paperwork Reduction Act of 1995, this notice announces the Animal and Plant Health Inspection Service's intention to request a revision to and extension of approval of an information collection associated with the regulations for the importation of small lots of seeds into the United States without phytosanitary certificates.

DATES: We will consider all comments that we receive on or before October 23, 2018.

ADDRESSES: You may submit comments by either of the following methods:

• Federal eRulemaking Portal: Go to http://www.regulations.gov/#!docketDetail;D=APHIS-2018-0055.

• Postal Mail/Commercial Delivery: Send your comment to Docket No. APHIS-2018-0055, Regulatory Analysis and Development, PPD, APHIS, Station 3A-03.8, 4700 River Road, Unit 118, Riverdale, MD 20737-1238.

Supporting documents and any comments we receive on this docket may be viewed at http://www.regulations.gov/#!docketDetail;D=APHIS-2018-0055 or in our reading room, which is located in Room 1141 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For information on the regulations related to the importation of small lots of seeds into the United States without phytosanitary certificates, contact Mr. Joseph Corpuz, Assistant Director, Permitting and Compliance Coordination, PPQ, APHIS, 4700 River Road, Unit 40, Riverdale, MD 20737-1236; (301) 851-2068. For more detailed information on the information collection, contact Ms. Kimberly Hardy, APHIS' Information Collection Coordinator, at (301) 851-2483.

SUPPLEMENTARY INFORMATION: Title: Importation of Small Lots of Seeds Without Phytosanitary Certificates.

OMB Control Number: 0579-0285.

Type of Request: Revision to and extension of approval of an information collection.

Abstract: The Plant Protection Act (7 U.S.C. 7701 et seq.) authorizes the Secretary of Agriculture to restrict the importation, entry, or interstate movement of plants, plant products, and other articles to prevent the introduction of plant pests into the United States or their dissemination within the United States. The regulations contained in “Subpart—Plants for Planting” (7 CFR 319.37-1 through 319.37-23) prohibit or restrict, among other things, the importation of living plants, plant parts, and seed for propagation.

These regulations allow small lots of seed to be imported into the United States under an import permit with specific conditions as an alternative to a phytosanitary certificate requirement. These conditions include packet and shipment labeling and marking and port of arrival notification. Noncompliant imported lots may be confined at the port of entry while the importer responds to and acts on a Government-issued emergency action notification.

We are asking the Office of Management and Budget (OMB) to approve our use of these information collection activities, as described, for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the collection of information on those who are to respond, through use, as appropriate, of automated, electronic, mechanical, and other collection technologies; e.g., permitting electronic submission of responses.

Estimate of burden: The public burden for this collection of information is estimated to average 0.02 hours per response.

Respondents: Importers, commercial horticulturalists and plant scientists, and private individuals.

Estimated annual number of respondents: 2,376.

Estimated annual number of responses per respondent: 423.

Estimated annual number of responses: 1,005,494.

Estimated total annual burden on respondents: 18,732 hours. (Due to averaging, the total annual burden hours may not equal the product of the annual number of responses multiplied by the reporting burden per response.)

All responses to this notice will be summarized and included in the request for OMB approval. All comments will also become a matter of public record.

Done in Washington, DC, this 21st day of August 2018.
Kevin Shea,
Administrator, Animal and Plant Health Inspection Service.

[FR Doc. 2018-18414 Filed 8-23-18; 8:45 am]

BILLING CODE 3410-34-P